DEPARTMENT OF AGRICULTURE

Submission for OMB Review; Comment Request

March 13, 2006.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), Pamela_Beverly_OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8681.

An agency may not conduct or sponsor a collection of information unless the collection of information displays a currently valid OMB control number and the agency informs potential persons who are to respond to the collection of information that such persons are not required to respond to the collection of information unless it displays a currently valid OMB control number.

Cooperative State Research, Education, and Extension Service

Title: Certification of Offset and Entitlement.

OMB Control Number: 0524-0038.

Summary of Collection: The requirements for this collection are specified in section 226 of the Agricultural Research, Extension, and Education Reform Act of 1998 (AREERA). Section 226 of AREERA amends Subtitle G of the National Agricultural Research, Extension, and Teaching Policy Act of 1977 (NSRETPA) by adding a new section 1449. This section requires matching funds from non-Federal sources for formula funds authorized under sections 1444 and 1445 of NARETPA for extension and research activities at the 1890 land-grant institutions, including Tuskegee University and West Virginia State College. The purpose of the collection of information is to ensure the availability of matching funds for the formula funds provided to the Cooperative State, Research, Education, and Extension Service (CSREES) cooperating institutions, most of which are 1862 and 1890 Land-Grant Institutions. CSREES will collect information using CSREES form 2103A-E, Certification of Offset and Entitlement.

Need and Use of the Information: CSREES will collect information from CSREES form 2103-A-E, to ensure that formula funds are provided to the eligible CSREES cooperating institutions under sections 1443, 1444, and 1445 of the National Agricultural Research, Extension, and Teaching Policy Act of 1977. Information will be collected up to 3 times per year for research and extension activities to provide information on the projected matching funds, the actual matching funds, and any revisions to the actual matching funds.

Description of Respondents: State, Local or Tribal Government.

Number of Respondents: 96.

Frequency of Responses: Reporting: Other (three times a year).

Total Burden Hours: 3,017.

Ruth Brown,
Departmental Information Collection Clearance Officer.

[FR Doc. E6-3857 Filed 3-16-06; 8:45 am]

BILLING CODE 3410-09-P